SMALL BUSINESS ADMINISTRATION

Region VII Regulatory Fairness Board

AGENCY: U.S. Small Business Administration, Office of the National Ombudsman.

ACTION: Notice of Federal Regulatory Fairness Hearing.

SUMMARY: The SBA is issuing this notice to advise the public of a Federal Regulatory Fairness Hearing in St. Louis, MO. The hearing is open to the public; however, advance notice of attendance is requested.

DATES: The hearing will be held on Tuesday, May 6, 2008 from 9 a.m. to 12 noon Central Standard Time.

ADDRESSES: The hearing will be held at the Center for Emerging Technology, 4041 Forest Park Avenue, St. Louis, MO 63108.

SUPPLEMENTARY INFORMATION: Pursuant to section 10(a)(2) of the Federal Advisory Committee Act (5 U.S.C., Appendix 2), SBA Regional Regulatory Fairness Board and the Office of the National Ombudsman hold Regulatory Fairness hearings across the nation. Issues addressed at these hearings will be directed to the appropriate Federal regulatory agency for a high-level review of fairness of the enforcement action.

The purpose of the hearing is for Business Organizations, Trade Associations, Chambers of Commerce and related organizations serving small business concerns to report experiences regarding unfair or excessive Federal regulatory enforcement issues affecting their members.

FOR FURTHER INFORMATION CONTACT: Christina Marinos, Special Assistant, SBA, Office of the National Ombudsman, 409 3rd Street, SW., Suite 7125, Washington, DC 20416, telephone: (202) 401-8254, fax: (202) 292-3423, e-mail: Christina.marinos @sba.gov. Anyone wishing to testify and/or make a presentation to the Regulatory Fairness Board must contact Christina Marinos by May 5, by fax or e-mail in order to be placed on the agenda.

Additionally, if you need accommodations because of a disability or require additional information, please contact Christina Marinos at the information above.

For more information, please visit our Web site at http://www.sba.gov/ombudsman.

Cherylyn Lebon,
SBA Committee Management Officer.

[FR Doc. E8-8692 Filed 4-21-08; 8:45 am]

BILLING CODE 8025-01-P